DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer at (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Biannual Infrastructure Development Measures for State Adolescent and Transitional Aged Youth Treatment Enhancement and Dissemination Implementation (SYT-I) and Adolescent and Transitional Aged Youth Treatment Implementation (YT-I) Programs—(OMB No. 0930-0344)—Revision

The Substance Abuse and Mental Health Services Administration (SAMHSA), Center for Substance Abuse Treatment has developed a set of infrastructure development measures in which recipients of cooperative agreements will report on various benchmarks on a semi-annual basis. The infrastructure development measures are designed to collect information at the state-level and site-level.

The projects were previously named State Adolescent Treatment Enhancement and Dissemination (SAT-ED) and State Youth Treatment Enhancement and Dissemination (SYT-ED) Programs and are now called State Adolescent And Transitional Aged Youth Treatment Enhancement and Dissemination Implementation (SYT-I) and Adolescent and Transitional Aged Youth Treatment Implementation (YT-I) Programs.

No changes have been made to the Biannual Infrastructure Development Measures Report. The only revision to the biannual progress report is due to the decrease in the number of respondents.

The infrastructure development measures are based on the programmatic requirements conveyed in TI-15-004, Cooperative Agreements for SYT-I and TI-17-002, Cooperative Agreements for YT-I.

The purpose of this program is to provide funding to States/Territories/Tribes to improve treatment for adolescents and transitional age youth through the development of a learning laboratory with collaborating local community-based treatment provider sites. Through the shared experience between the State/Territory/Tribe and the local community-based treatment provider sites, an evidence-based practice (EBP) will be implemented, youth and families will be provided services, and a feedback loop will be developed to enable the State/Territory/Tribe and the sites to identify barriers and test solutions through a services component operating in real time. The expected outcomes of these cooperative agreements will include needed changes to State/Territorial/Tribal policies and procedures; development of financing structures that work in the current environment; and a blueprint for States/Territories/Tribes and providers that can be used throughout the State/Territory/Tribe to widen the use of effective substance use treatment EBPs. Additionally, adolescents (ages 12 to 18), transitional age youth (ages 18 to 24), and their families/primary caregivers who are provided services through grant funds will inform the process to improve systems issues.

Estimates for response burden were calculated based on the methodology (survey data collection) being used and are based on previous experience collecting similar data and results of the pilot study. For emailed biannual surveys, burden estimates of 12.0 hours were used for Project Directors and/or Program Managers and burden estimates of 7.2 hours were used for other project staff members. It is estimated that 11 Project Directors and/or Program Managers and 22 other staff members from Cohort 1 will respond to the emailed survey biannually (i.e., twice each year) for 3 years at an estimated total burden of 1,742.4 hours for Cohort 1. It is estimated that 2 Project Directors and/or Program Managers and 4 other staff members from Cohort 2 will respond to the emailed survey biannually (i.e., twice each year) for 3 years at an estimated total burden of 316.8 hours for Cohort 2. It is estimated that 11 Project Directors and/or Program Managers and 22 other staff members from Cohort 3 will respond to the emailed survey biannually (i.e., twice each year) for 3 years at an estimated total burden of 1742.4 hours for Cohort 3. The burden hours of Cohort 1 (1742.4 hours), Cohort 2 (316.8 hours) and Cohort 3 (1742.4 hours) combined comes to a total estimated burden for the emailed biannual survey of 3,801.6 hours.

Table 1—Data Collection Burden for Biannual Infrastructure Development Measure for Cohorts 1, 2, and 3
Cohort | Respondent type ᵃ | Number of respondents | Responses per respondent | Total responses | Hours per response | Total annual hour burden
1 | Project Director | 11 | 2 | 22 | 12.0 | 264
2 | Project Director | 2 | 2 | 4 | 12.0 | 28
3 | Project Director | 11 | 2 | 22 | 12.0 | 264
Total |  | 24 |  | 48 |  | 556
ᵃ Total PD/PM and total other staff member cost are calculated as hourly wage × time spent on progress report × number of participants.

Table 2—Annualized Burden for Biannual Infrastructure Development
Respondent type | Number of respondents | Responses per espondent | Total responses | Hours per response | Total annual hour burden
Project Director | 11 | 2 | 22 | 12.0 | 264

Send comments to Summer King, SAMHSA Reports Clearance Officer, 15E-57B, 5600 Fishers Lane, Rockville, MD 20857 OR email her a copy at summer.king@samhsa.hhs.gov. Written comments should be received by September 12, 2017.

Summer King,
Statistician.

[FR Doc. 2017-14782 Filed 7-13-17; 8:45 am]

BILLING CODE 4162-20-P